DEPARTMENT OF THE TREASURY

Submission for OMB Review; Comment Request

June 24, 2005.

The Department of the Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before August 1, 2005 to be assured of consideration.

Internal Revenue Service (IRS)

OMB Number: 1545-0001.

Form Number: IRS Form CT-1.

Type of Review: Extension.

Title: Employer's Annual Railroad Retirement Tax Return.

Description: Railroad employers are required to file an annual return to report employer and employee Railroad Retirement Tax Act (RRTA). Form CT-1 is used for this purpose. IRS uses the information to insure that the employer has paid the correct tax.

Respondents: Business and other for-profit, Not-for-profit institutions, State, local or tribal government.

Estimated Number of Respondents/Recordkeepers: 2,817.

Estimated Burden Hours Respondent/Recordkeeper:

Recordkeeping:

Part I—10 hr., 31 min.

Part II—4 hr., 4 min.

Learning about the law or the form:

Part I—1 hr., 1 min.

Preparing, copying, assembling, and sending the form to the IRS:

Part I—4 hr., 39 min.

Part II—4 min.

Frequency of Response: Annually.

Estimated Total Reporting/Recordkeeping Burden: 46,359 hours.

OMB Number: 1545-0003.

Form Number: IRS Forms SS-4 and SS-4PR.

Type of Review: Extension.

Title: SS-4: Application for Employer Identification Number; and SS-4PR: Solicitud de Número de Identificación Patronal (EIN).

Description: Taxpayers required to have an identification number for use on any return, statement, or other document must prepare and file Form SS-4 or Form SS-4PR (Puerto Rico only) to obtain a number. The information is used by the IRS and the SSA in tax administration and by the Bureau of the Census for business statistics.

Respondents: Business and other for-profit, Individuals or households, Not-for-profit institutions, Farms, Federal Government, State, local or tribal government.

Estimated Number of Respondents/Recordkeepers: 2,419,064.

Estimated Burden Hours Respondent/Recordkeeper:

| Form SS-4 | Form SS-4PR
Recordkeeping | 6 min. | 7 min.
Learning about the law and the form | 22 min. | 22 min.
Preparing the form | 46 min. | 46 min.
Copying, assembling, and sending the form to the IRS | 20 min. | 20 min.

Frequency of Response: On occasion.

Estimated Total Reporting/Recordkeeping Burden: 3,919,265 hours.

OMB Number: 1545-0110.

Form Number: IRS Form 1099-DIV.

Type of Review: Extension.

Title: Dividends and Distributions.

Description: The form is used by the Service to insure that dividends are properly reported as required by Code section 6042 and that liquidation distributions are correctly reported as required by Code section 6043, and to determine whether payees are correctly reporting their income.

Respondents: Business and other for-profit.

Estimated Number of Respondents: 140,560.

Estimated Burden Hours Respondent: 18 minutes.

Frequency of Response: Annually.

Estimated Total Reporting Burden: 38,156,033 hours.

OMB Number: 1545-0216.

Form Number: IRS Form 5713 and Schedules A, B, and C.

Type of Review: Extension.

Title: International Boycott Report.

Description: Form 5713 and related Schedules A, B, and C are used by an entity that has operations in a “boycotting” country. If that entity cooperates with or participates in an international boycott it loses a portion of the foreign tax credit, or deferral or FSC and IC-DISC benefits. The IRS uses Form 5713 to determine if any of the above benefits should be lost. The information is also used as the basis for a report to the Congress.

Respondents: Business and other for-profit, Individuals or households.

Estimated Number of Respondents/Recordkeepers: 3,875.

Estimated Burden Hours Respondent/Recordkeeper:

Form | Recordkeeping | Learning about the law or the form | Preparing and sending the form to the IRS
5713 | 22 hr., 0 min | 2 hr., 21 min | 4 hr., 1 min.
Schedule A (5713) | 3 hr., 6 min | 12 min | 15 min.
Schedule B (5713) | 3 hr., 21 min | 1 hr., 59 min | 2 hr., 7 min.
Schedule C (5713) | 5 hr., 15 min | 1 hr., 47 min | 1 hr., 57 min.

Frequency of Response: Annually.

Estimated Total Reporting/Recordkeeping Burden: 104,236 hours.

OMB Number: 1545-1658.

Regulation Project Number: REG-107069-97 Final.

Type of Review: Extension.

Title: Purchase Price Allocations in Deemed Actual Asset Acquisitions.

Description: Section 338 of the Internal Revenue Code provides rules under which a qualifying stock acquisition is treated as an asset acquisition (as “deemed asset acquisition”) when an appropriate election is made. Section 1060 provides rules for the allocation of consideration when a trade or business is transferred. The collection of information is necessary to make the election, to calculate and collect the appropriate amount of tax liability when a qualifying stock acquisition is made, to determine the person liable for such tax, and to determine the bases of assets acquired in the deemed asset acquisition.

Respondents: Business and other for-profit, Farms.

Estimated Number of Respondents: 45.

Estimated Burden Hours Respondent: 34 minutes.

Frequency of Response: On occasion.

Estimated Total Reporting Burden: 25 hours.

OMB Number: 1545-1783.

Regulation Project Number: REG-107184-00 NPRM and Temporary.

Type of Review: Extension.

Title: Guidance Necessary to Facilitate Electronic Tax Administration.

Description: The regulations provide a regulatory statement of IRS authority to prescribe what return information or documentation must be filed with a return, statement or other document required to be made under any provision of the Internal Revenue laws or regulations. In addition, the regulations eliminate regulatory impediments to electronic filing of Form 1040.

Respondents: Individuals or households. Business and other for-profit.

Estimated Number of Respondents: 1.

Estimated Burden Hours Respondent: 1 hour.

Frequency of Response: Annually.

Estimated Total Reporting Burden: 1 hour.

OMB Number: 1545-1794.

Regulation Project Number: REG-106359-02 NPRM.

Type of Review: Extension.

Title: Compensatory Stock Options under Section 482.

Description: The information will be used to determine whether the participants in a qualified cost sharing arrangements are sharing stock-based compensation costs attributable to the intangible development area in proportion to reasonably anticipated benefits as required by the proposed amendment to the cost sharing regulations.

Respondents: Business and other for-profit.

Estimated Number of Respondents/Recordkeepers: 500.

Estimated Burden Hours Respondent/Recordkeeper: 2 hours.

Frequency of Response: Annually.

Estimated Total Reporting/Recordkeeping Burden: 2,000 hours.

OMB Number: 1545-1910.

Form Number: IRS Form 8858 and Schedule M.

Type of Review: Extension.

Title: Form 8858: Information Return of U.S. Persons with Respect to Foreign Disregarded Entities; and Schedule M: Transactions between Foreign Disregarded Entity of a Foreign Tax Owner and the Filer or Other Related Entities.

Description: Form 8858 and Schedule M (Form 8858) are used by certain U.S. persons that own a foreign disregarded entity (FDE) directly or, in certain circumstances, indirectly or constructively.

Respondents: Business and other for-profit, Individuals or households.

Estimated Number of Respondents/Recordkeepers: 50,000.

Estimated Burden Hours Respondent/Recordkeeper:

Form | Recordkeeping | Learning about the law or the form | Preparing and sending the form to the IRS
8858 | 17 hr., 56 min | 4 hr., 10 min | 4 hr., 38 min.
Schedule M (8858) | 24 hr., 9 min | 6 min | 30 min.

Frequency of Response: Annually.

Estimated Total Reporting/Recordkeeping Burden: 1,832,500 hours.

OMB Number: 1545-1928.

Form Number: IRS Form 8891.

Type of Review: Extension.

Title: U.S. Information Return for Beneficiaries of Certain Canadian Registered Retirement Plans.

Description: Form 8891 is used by taxpayers to report distributions from certain Canadian registered retirement plans and to make the election to defer income tax on these distributions.

Respondents: Individuals or households.

Estimated Number of Respondents/Recordkeepers: 750,000.

Estimated Burden Hours Respondent/Recordkeeper:

Recordkeeping—1 hr., 5 min.

Learning about the law or the form—7 min.

Preparing the form—24 min.

Copying, assembling, and sending the form to the IRS—20 min.

Frequency of Response: Annually.

Estimated Total Reporting/Recordkeeping Burden: 1,462,500 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Lois K. Holland,
Treasury PRA Clearance Officer.

[FR Doc. 05-13023 Filed 6-30-05; 8:45 am]

BILLING CODE 4830-01-P